DEPARTMENT OF JUSTICE

28 CFR Part 58

[Docket No. EOUST 105]

RIN 1105-AB30

Procedures for Completing Uniform Periodic Reports in Non-Small Business Cases Filed Under Chapter 11 of Title 11

AGENCY: Executive Office for United States Trustees (“EOUST”), Justice.

ACTION: Notice of public hearing; reopening of comment period.

SUMMARY: On November 10, 2014, the Department of Justice, through its component, the EOUST, published its notice of proposed rulemaking (“NPRM”), Procedures for Completing Uniform Periodic Reports in Non-Small Business Cases Filed under Chapter 11 of Title 11 (“Periodic Reports”). In order to accommodate requests by certain commenters to meet with representatives of the EOUST to discuss the NPRM, and to provide an opportunity for interested persons to express their views directly to EOUST officials, the EOUST will hold a public hearing on the NPRM. In conjunction with the public hearing, the EOUST has reopened the comment period and will accept supplemental comments from those who submitted comments during the initial comment period and new comments from those who did not.

DATES: 1. Public Hearing: The public hearing will be held on Wednesday, February 17, 2016, from 10:00 a.m. to 1:00 p.m., Eastern Time.

2. Deadline for Comments: Comments on the NPRM must be submitted on or before Monday, February 22, 2016.

ADDRESSES: 1. Location of Public Hearing: The public hearing will be held at the EOUST's Executive Conference Center, 441 G Street NW., Sixth Floor, Washington, DC 20530 (the GAO Building).

2. Submission of Comments: The comments may be submitted via one of the following methods:

(a) Mail or Hand Delivery/Courier. EOUST, 441 G Street NW., Suite 6150, Washington, DC 20530, attention: Carrie Weinfeld. Comments received by mail will be considered timely if they are postmarked on or before Monday, February 22, 2016, and deliveries by courier should be received by EOUST by 5:00 p.m. Eastern Time on Monday, February 22, 2016; or

(b) Federal eRulemaking Portal. Please follow the instructions for submitting comments located on the Federal eRulemaking Portal at www.regulations.gov. Comments will be accepted through the Federal eRulemaking Portal until 11:59 p.m. Eastern Time on Monday, February 22, 2016.

FOR FURTHER INFORMATION CONTACT: Carrie Weinfeld, (202) 307-1399 (this is not a toll free number), or carrie.b.weinfeld@usdoj.gov.

SUPPLEMENTARY INFORMATION:

NPRM, Periodic Reports, and Public Comments

1. NPRM and Periodic Reports: The NPRM and the proposed forms for the Periodic Reports are available online at www.justice.gov/ust/rules-and-federal-register-notices and also at www.regulations.gov.

2. Public Comments: The initial comment period for the NPRM closed on January 9, 2015. Comments received as of January 9, 2015, are available online at www.regulations.gov.

Public Hearing

1. EOUST Panel: A panel of representatives from the EOUST will preside at the public hearing.

2. Attendance and Security: The public hearing will be open to the public, with attendance limited to the available space. Timely registration is required to ensure adequate seating, but attendance is not guaranteed until registration is confirmed by the EOUST. Attendees may begin arriving at 9:00 a.m. Eastern Time and should allow a minimum of 15 minutes to clear security and be escorted to the public hearing room before 10:00 a.m. Eastern Time. All those attending the public hearing must timely register; present government-issued photo identification (such as a valid driver's license); and enter the building through the visitor's entrance at 441 G Street NW., between 4th and 5th Streets.

3. Registration: To register for the public hearing, send an email to USTPMOR.NPRM@usdoj.gov on or before January 6, 2016. The email must include the participant's name, address, and phone number. Participants who need special assistance, such as sign language interpretation or other reasonable accommodations, should also include this information in the email. In addition, participants who intend to make an oral presentation must so state in the email. The EOUST will send an email confirming registration.

4. Written Statement: Participants who register to make an oral presentation must, on or before January 6, 2016, either submit a written statement or state that they intend to rely on their public comment(s) submitted on or before that date. Organizations should designate no more than one individual to speak on behalf of the organization.

5. Oral Presentation: Oral presentations will be limited to five (5) minutes and should summarize the participant's written statement or submitted comment(s). Participants who register to make oral presentations should be prepared to respond orally to questions from the EOUST Panel. Participants who register to make oral presentations will be informed prior to the public hearing of the order of the presentation.

Public Inspection of the Record and Protecting Personally Identifiable Information

1. Public Inspection: The public hearing will be transcribed. The transcript, all written statements, and all public comments will be made available for public inspection online at www.regulations.gov. The public hearing transcript will also be posted on the EOUST's Web site.. As part of the process to finalize the NPRM, the EOUST will review and analyze all public comments, written statements, and the transcript of the public hearing. The final rule will be published in the Federal Register, along with the EOUST's analysis of the public comments, written statements, and the transcript of the public hearing.

2. Personally Identifiable Information: All comments will be publicly posted; therefore, you should submit only information that you wish to make publicly available. If you wish to submit personally identifiable information as part of your comment, you must include in the first paragraph the phrase “PERSONALLY IDENTIFIABLE INFORMATION.” You must also prominently identify all personally identifiable information to be redacted within the comment. If you wish to submit confidential business information as part of your comment or statement, you must include in the first paragraph the phrase “CONFIDENTIAL BUSINESS INFORMATION.” You must also prominently identify all confidential business information to be redacted within the comment. If a comment has so much personally identifiable information or confidential business information redacted that it cannot be reviewed effectively after redaction, all or part of that comment may not be posted or considered in the EOUST's analysis.

Dated: November 20, 2015.
Clifford J. White III,
Director, Executive Office for United States Trustees.

[FR Doc. 2015-30294 Filed 11-27-15; 8:45 am]

BILLING CODE 4410-40-P